GENERAL SERVICES ADMINISTRATION

Federal Supply Service; Standard Tender of Service

AGENCY: Federal Supply Service, GSA.

ACTION: Notice for comment on adoption of an interim 2 percent insurance related surcharge.

SUMMARY: In compliance with 41 U.S.C. 418b, the General Services Administration (GSA) is publishing for comment in the attachment to this Notice adoption of an interim 2 percent “insurance related surcharge” requested by the freight motor carrier industry, hereinafter referred to as transportation service provider (TSP). The surcharge will allow TSP's to recover rapidly increasing insurance premiums resulting from changes in the economy compounded by the events of September 11, 2001.

DATES: Effective Date: This Notice is effective May 1, 2002.

Comment Date: Please submit your comments by June 10, 2002.

Expiration Date: This Notice will expire October 31, 2002.

ADDRESSES: Mail comments to the General Services Administration, Travel and Transportation Management Division (FBL), Crystal Mall Bldg. 4, Rm. 812, 1941 Jefferson Davis Highway, Arlington, VA 22202, Attn: Raymond Price (Re: Insurance Related Surcharge Federal Register Notice).

FOR FURTHER INFORMATION CONTACT: Mr. Raymond Price, Transportation Programs Branch, by phone at 703-305-7536 or by e-mail at raymond.price@gsa.gov.

SUPPLEMENTARY INFORMATION: GSA, through adoption of the 2 percent surcharge reflected in the attachment to this Notice, is providing TSP participants in GSA's General Freight Standard Tender of Service relief from sudden and unforeseen increases in insurances costs that have occurred as a result of fluctuations in the economy compounded by the events of September 11th. Without this surcharge, TSP's that submit tenders for closed van, filing window controlled traffic would not be able to begin recovering the unexpected insurance cost increases until the rates they file under GSA's next Request for Offers become effective on November 1, 2002.

Tauna T. Delmonico,
Director, Travel and Transportation Management Division.

Attachment—Notice to Federal Customer Agencies and Transportation Service Providers Participating in GSA's Freight Management Program (FMP)—2 Percent Insurance Related Surcharge

In a letter to the General Services Administration (GSA) dated March 11, 2002, the Counsel for the National Motor Freight Traffic Association (NMFTA) requested that transportation service providers (TSP's) be allowed to assess a 2 percent surcharge on all domestic closed van freight shipments moving under GSA's FMP. The NMFTA made this request to help offset sudden and unforeseen increases in insurance premiums resulting from economic fluctuations compounded by the events of September 11, 2001. GSA has approved the 2 percent surcharge. As a result, effective May 1, 2002, a TSP may add to an agency's billing invoice a separate line item equivalent to 2 percent of a shipment's line-haul charge.

Identified below are timeframes during which TSP's will have their next opportunity to submit either new or supplemental electronic rate offers (see column titled “Next Open Window Filing Period”). A TSP will need to make adjustments in its rate offers during the appropriate timeframe to continue to recover its costs for any elevated insurance premiums. Consequently, effective November 1, 2002, a TSP that submits electronic tender filings no longer will be permitted to bill agencies participating in GSA's FMP for an insurance related surcharge as a separate line item.

Request for offers (RFO) | Next open window filing period | Effective date
National Industries for the Blind (NIB) and National Industries for the Severely Handicapped (NISH) issued July 6, 2001 | July or August, 2002 | November 1, 2002.
General Request for Offers issued February 25, 2002, including:
—General freight rate offers (Sec. 8) | August 1-September 6, 2002 | November 1, 2002.
—Intrastate Alaska rate offers (Sec. 8)
—US Postal Service (USPS) rate offers (Sec. 9)
—Fire suppression support service rate offers (Sec. 10)
—Agency specific non-alternating rate offers (Sec. 11)
—Federal Aviation Administration, Oklahoma City, OK, rate offers (Sec. 12) and
—Agency specific alternating rate offers (Sec. 13)
*United States Mint issued January 7, 2002 | None | May 1, 2003.
*GSA Western Distribution Center, Stockton, CA issued November 9, 2001 | None | May 1, 2003.
* Neither U.S. nor GSA Western Distribution Center, Stockton, CA, RFO's contain a supplemental filing window. Effective November 1, 2002, a TSP will not be permitted to continue billing the 2 percent insurance related surcharge as a separate line item for this traffic unless it submits a request to GSA substantiating the continued need for a surcharge and GSA approves the request.

Additionally, any TSP that has a paper Optional Form 280 (OF 280) on file with GSA for domestic closed van freight shipments will need to submit a supplement to each OF 280 (with an effective date of November 1, 2002) effectively adjusting its rate offers to continue to recover the cost of any elevated insurance premiums. Consequently, effective November 1, 2002, a TSP with an OF 280 freight tender on file with GSA no longer will be allowed to bill agencies participating in GSA's FMP for an insurance related surcharge as a separate line item.

[FR Doc. 02-11638 Filed 5-8-02; 8:45 am]

BILLING CODE 6820-24-M